DEPARTMENT OF ENERGY

Federal Energy Regulatory Commission

[Project No. 2464-014]

Gresham Municipal Utilities; Notice of Intent To File License Application, Filing of Pre-Application Document, and Approving Use of the Traditional Licensing Process

August 25, 2010.

a. Type of Filing: Notice of Intent to File License Application and Request to Use the Traditional Licensing Process.

b. Project No.: P-2464-014.

c. Dated Filed: June 28, 2010.

d. Submitted By: Gresham Municipal Utilities.

e. Name of Project: Weed Dam Hydroelectric Project.

f. Location: On Red River in Shawano County, Wisconsin. No federal lands are occupied by the project works or located within the project boundary.

g. Filed Pursuant to: 18 CFR 5.3 of the Commission's regulations.

h. Potential Applicant Contact: Gresham Municipal Utilities, Village of Gresham, Wisconsin, Attn: Art Bahr, Village Administrator, 1126 Main Street, PO Box 50, Gresham, WI 54128.

i. FERC Contact: Janet Hutzel at (202) 502-8675; or e-mail at janet.hutzel@ferc.gov.

j. Gresham Municipal Utilities filed its request to use the Traditional Licensing Process on June 28, 2010. Gresham Municipal Utilities provided public notice of its request on July 6, 2010. In a letter issued on August 23, 2010, Ms. Ann F. Miles, the Director of the Division of Hydropower Licensing, approved Gresham Municipal Utilities request to use the Traditional Licensing Process.

k. With this notice, we are initiating informal consultation with: (a) The U.S. Fish and Wildlife under section 7 of the Endangered Species Act and the joint agency regulations thereunder at 50 CFR, part 402; and (b) the Wisconsin State Historic Preservation Officer, as required by section 106, National Historical Preservation Act, and the implementing regulations of the Advisory Council on Historic Preservation at 36 CFR 800.2.

l. Gresham Municipal Utilities filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. The licensee states its unequivocal intent to submit an application for a new license for Project No. 2464. Pursuant to 18 CFR 16.8, 16.9, and 16.10 each application for a new license and any competing license applications must be filed with the Commission at least 24 months prior to the expiration of the existing license. All applications for license for this project must be filed by June 30, 2013.

o. Register online at http://www.ferc.gov/docs-filing/esubscription.asp to be notified via e-mail of new filing and issuances related to this or other pending projects. For assistance, contact FERC Online Support.

Kimberly D. Bose,
Secretary.

[FR Doc. 2010-21794 Filed 8-31-10; 8:45 am]

BILLING CODE 6717-01-P